INSTITUTE OF PEACE

Notice of Meeting

AGENCY: United States Institute of Peace.

DATE/TIME: Friday, January 19, 2018 (10:00 a.m.-1:00 p.m.).

LOCATION: 2301 Constitution Avenue NW, Washington, DC 20037.

STATUS: Open Session—Portions may be closed pursuant to Subsection (c) of Section 552(b) of Title 5, United States Code, as provided in subsection 1706(h)(3) of the United States Institute of Peace Act, Public Law 98-525.

AGENDA: January 19, 2018 Board Meeting: Chairman's Report; Vice Chairman's Report; President's Report; Approval of Minutes of the One Hundred and Sixty Fourth Meeting (October 20, 2017) of the Board of Directors; Reports from USIP Board Committees; Stoplight Presentation; Non-Violent Action Report; and Burma Update.

CONTACT: William B. Taylor, Executive Vice President: wtaylor@usip.org.

Dated: January 5, 2018.
William B. Taylor,
Executive Vice President.

[FR Doc. 2018-00269 Filed 1-9-18; 8:45 am]

BILLING CODE 6820-AR-P